DEPARTMENT OF THE INTERIOR

Bureau of Land Management

[LLCAD00000 L19900000.AL0000]

Call for Nominations for the California Desert District Advisory Council

AGENCY: Bureau of Land Management, Interior.

ACTION: Notice.

SUMMARY: The Bureau of Land Management's (BLM) California Desert District is soliciting nominations from the public for five members to serve 3-year terms on its Desert District Advisory Council. Council members provide advice and recommendations to the BLM on the management of public lands in Southern California.

DATES: Nominations will be accepted until May 13, 2013.

ADDRESSES: Nominations should be sent to Teresa Raml, District Manager, Bureau of Land Management, California Desert District Office, 22835 Calle San Juan De Los Lagos, Moreno Valley, CA 92553.

FOR FURTHER INFORMATION CONTACT: David Briery, BLM California Desert District External Affairs, 951-697-5220.

SUPPLEMENTARY INFORMATION: The California Desert District Advisory Council is comprised of 15 private individuals who represent different interests and advise BLM officials on policies and programs concerning the management of 10.8 million acres of public land in Southern California. The Council meets in formal session three to four times each year in various locations throughout the California Desert District. Council members serve without compensation other than travel expenses. Members serve 3-year terms and may be nominated for reappointment for an additional 3-year term.

Section 309 of the Federal Land Policy and Management Act directs the Secretary of the Interior to involve the public in planning and issues related to management of BLM-administered lands. The Secretary also selects Council nominees consistent with the requirements of the Federal Advisory Committee Act (FACA), which requires nominees appointed to the Council be balanced in terms of points of view and representative of the various interests concerned with the management of the public lands. The Council also is balanced geographically and the BLM will try to find qualified representatives from areas throughout the California Desert District. The District covers portions of eight counties, and includes more than 10.8 million acres of public land in the California Desert Conservation Area of Mono, Inyo, Kern, Los Angeles, San Bernardino, Riverside, and Imperial counties, as well as 300,000 acres of scattered parcels in San Diego, western Riverside, western San Bernardino, and Los Angeles Counties (known as the South Coast).

The five positions to be filled include one elected official, one representative of renewable resources groups or organizations, and three representatives of the public-at-large. Two positions are immediate vacancies (elected official and one public-at-large) and their 3-year terms would begin immediately upon appointment by the Secretary of the Interior. The other three positions (renewable resources and two public-at-large) become vacant on Dec. 10, 2013.

Any group or individual may nominate a qualified person, based upon education, training, and knowledge of the BLM, the California Desert, and the issues involving BLM-administered public lands throughout Southern California. Qualified individuals also may nominate themselves.

The nomination form may be found on the Desert Advisory Council Web page: http://www.blm.gov/ca/st/en/info/rac/dac.html. The following must accompany the nomination form for all nominations:

• Letters of reference from represented interests or organizations;

• A completed background information nomination form; and

• Any other information that addresses the nominee's qualifications.

Nominees unable to download the nomination form may contact the BLM California Desert District External Affairs staff at 951-697-5220 to request a copy. Advisory Council members are appointed by the Secretary of the Interior. The Obama Administration prohibits individuals who are currently federally registered lobbyists to serve on all FACA and non-FACA boards, committees or councils.

Timothy J. Wakefield,
Associate California Desert District Manager.

[FR Doc. 2013-07025 Filed 3-26-13; 8:45 am]

BILLING CODE 4310-40-P